DEPARTMENT OF LABOR

Employment and Training Administration

[TA-W-70,862]

Toshiba America Business Solutions, Inc., Electronics Imaging Division, Irvine, CA; Notice of Termination of Investigation

Pursuant to Section 221 of the Trade Act of 1974, as amended, an investigation was initiated on June 2, 2009, in response to a petition filed by a California State Trade Adjustment Assistance Specialist on behalf of workers of Toshiba America Business Solutions, Inc., Electronics Imaging Division, Irvine, California.

The petitioner has requested that the petition be withdrawn. Consequently, the investigation has been terminated.

Signed at Washington, DC, this 14th day of August 2009.
Richard Church,
Certifying Officer, Division of Trade Adjustment Assistance.

[FR Doc. E9-29165 Filed 12-7-09; 8:45 am]

BILLING CODE 4510-FN-P